SOCIAL SECURITY ADMINISTRATION

[Docket No. SSA-2008-0062]

Social Security Ruling, SSR 09-3p.; Title XVI: Determining Childhood Disability—The Functional Equivalence Domain of “Acquiring and Using Information”

AGENCY: Social Security Administration.

ACTION: Notice of Social Security Ruling (SSR).

SUMMARY: We are giving notice of SSR 09-3p. This SSR consolidates information from our regulations, training materials, and question-and-answer documents about the functional equivalence domain of “Acquiring and using information.” It also explains our policy about that domain.

DATES: Effective Date: March 19, 2009.

FOR FURTHER INFORMATION CONTACT: Janet Truhe, Office of Disability Programs, Social Security Administration, 6401 Security Boulevard, Baltimore, MD 21235-6401, (410) 965-1020.

SUPPLEMENTARY INFORMATION: Although 5 U.S.C. 552(a)(1) and (a)(2) do not require us to publish this SSR, we are doing so under 20 CFR 402.35(b)(1).

SSRs make available to the public precedential decisions relating to the Federal old-age, survivors, disability, supplemental security income, special veterans benefits, and black lung benefits programs. SSRs may be based on determinations or decisions made at all levels of administrative adjudication, Federal court decisions, Commissioner's decisions, opinions of the Office of the General Counsel, or other interpretations of the law and regulations.

Although SSRs do not have the same force and effect as statutes or regulations, they are binding on all components of the Social Security Administration. 20 CFR 402.35(b)(1).

This SSR will be in effect until we publish a notice in the Federal Register that rescinds it, or publish a new SSR that replaces or modifies it.

(Catalog of Federal Domestic Assistance, Program No. 96.006 Supplemental Security Income.)
Dated: February 9, 2009.
Michael J. Astrue,
Commissioner of Social Security.

Policy Interpretation Ruling

Title XVI: Determining Childhood Disability—The Functional Equivalence Domain of “Acquiring and Using Information”

Purpose: This SSR consolidates information from our regulations, training materials, and question-and-answer documents about the functional equivalence domain of “Acquiring and using information.” It also explains our policy about that domain.

Citations: Sections 1614(a)(3), 1614(a)(4), and 1614(c) of the Social Security Act, as amended; Regulations No. 4, subpart P, appendix 1; and Regulations No. 16, subpart I, sections 416.902, 416.906, 416.909, 416.923, 416.924, 416.924a, 416.924b, 416.925, 416.926, 416.926a, and 416.994a.

Introduction: A child ¹ who applies for Supplemental Security Income (SSI) ² is “disabled” if the child is not engaged in substantial gainful activity and has a medically determinable physical or mental impairment or combination of impairments ³ that results in “marked and severe functional limitations.” ⁴ 20 CFR 416.906. This means that the impairment(s) must meet or medically equal a listing in the Listing of Impairments (the listings) ⁵ or functionally equal the listings (also referred to as “functional equivalence”). 20 CFR 416.924 and 416.926a.

¹ The definition of disability in section 1614(a)(3)(C) of the Social Security Act (the Act) applies to any “individual” who has not attained age 18. In this SSR, we use the word “child” to refer to any such person, regardless of whether the person is considered a “child” for purposes of the SSI program under section 1614(c) of the Act.

² For simplicity, we refer in this SSR only to initial claims for benefits. However, the policy interpretations in this SSR also apply to continuing disability reviews of children under section 1614(a)(4) of the Act and 20 CFR 416.994a.

³ We use the term “impairment(s)” in this SSR to refer to an “impairment or a combination of impairments.”

⁴ The impairment(s) must also satisfy the duration requirement in section 1614(a)(3)(A) of the Act; that is, it must be expected to result in death, or must have lasted or be expected to last for a continuous period of not less than 12 months.

⁵ For each major body system, the listings describe impairments we consider severe enough to cause “marked and severe functional limitations.” 20 CFR 416.925(a); 20 CFR part 404, subpart P, appendix 1.

As we explain in greater detail in SSR 09-1p, we always evaluate the “whole child” when we make a finding regarding functional equivalence, unless we can otherwise make a fully favorable determination or decision.⁶ We focus first on the child's activities, and evaluate how appropriately, effectively, and independently the child functions compared to children of the same age who do not have impairments. 20 CFR 416.926a(b) and (c). We consider what activities the child cannot do, has difficulty doing, needs help doing, or is restricted from doing because of the impairment(s). 20 CFR 416.926a(a). Activities are everything a child does at home, at school, and in the community, 24 hours a day, 7 days a week.⁷

⁶ See SSR 09-1p, Title XVI: Determining Childhood Disability Under the Functional Equivalence Rule—The “Whole Child” Approach.

⁷ However, some children have chronic physical or mental impairments that are characterized by episodes of exacerbation (worsening) and remission (improvement); therefore, their level of functioning may vary considerably over time. To properly evaluate the severity of a child's limitations in functioning, as described in the following paragraphs, we must consider any variations in the child's level of functioning to determine the impact of the chronic illness on the child's ability to function longitudinally; that is, over time. For more information about how we evaluate the severity of a child's limitations, see SSR 09-1p. For a comprehensive discussion of how we document a child's functioning, including evidentiary sources, see SSR 09-2p, Title XVI: Determining Childhood Disability—Documenting a Child's Impairment-Related Limitations.

We next evaluate the effects of a child's impairment(s) by rating the degree to which the impairment(s) limits functioning in six “domains.” Domains are broad areas of functioning intended to capture all of what a child can or cannot do. We use the following six domains:

(1) Acquiring and using information,

(2) Attending and completing tasks,

(3) Interacting and relating with others,

(4) Moving about and manipulating objects,

(5) Caring for yourself, and

(6) Health and physical well-being.

20 CFR 416.926a(b)(1).⁸

⁸ For the first five domains, we describe typical development and functioning using five age categories: Newborns and young infants (birth to attainment of age 1); older infants and toddlers (age 1 to attainment of age 3); preschool children (age 3 to attainment of age 6); school-age children (age 6 to attainment of age 12); and adolescents (age 12 to attainment of age 18). We do not use age categories in the sixth domain because that domain does not address typical development and functioning, as we explain in SSR 09-8p, Title XVI: Determining Childhood Disability—The Functional Equivalence Domain of “Health and Physical Well-Being.”

To functionally equal the listings, an impairment(s) must be of listing-level severity; that is, it must result in “marked” limitations in two domains of functioning or an “extreme” limitation in one domain.⁹ 20 CFR 416.926a(a).

⁹ See 20 CFR 416.926a(e) for definitions of the terms “marked” and “extreme.”

Policy Interpretation

General:

In the domain of “Acquiring and using information,” we consider a child's ability to learn information and to think about and use the information.

Children acquire and use information at all ages for many different purposes. For example:

• An infant shakes a rattle and learns that it will produce noise.

• A toddler learns how to play simple games.

• An older child learns how to read and do arithmetic, which enables the child to act more independently, such as to make a purchase.

• A teenager may learn the rules and mechanics for driving a car.

Accordingly, this domain considers more than just assessments of cognitive ability as measured by intelligence tests, academic achievement instruments, or grades in school.

Learning and thinking begin at birth. In early infancy, children learn primarily by exploring their world through the senses (sight, sound, taste, touch, and smell), but also through movement and imitation. As they go on to engage in play, children learn about concepts (for example, “color,” “shape,” “size,” and “weight”). As they learn that people, objects, and activities have names, they begin to understand that names are words, and words are symbols that “stand for” what is named. Over time, this understanding of concepts and symbols prepares children for using language to learn and think. Eventually, they are expected to learn to read, write, and do arithmetic, as well as to acquire new information—not only in school, but at home and in the community.

Throughout the learning process, children have to think about and use the information they have learned. Thinking involves being able to perceive relationships (for example, over/under and near/far), reason, and make logical choices. Children may do these things by thinking in pictures, words, or both. For example, children may solve problems by watching and imitating what other people do (thinking in pictures), or by internally “talking” their way through them (thinking in words). Eventually, children should be able to use language to think about the world, understand others, and express themselves. As they learn more complex language, children should be able to combine ideas to solve problems and perform more complex tasks.

Both mental and physical impairments can affect a child's ability to acquire and use information. In addition to mental retardation and learning disorders, many other mental disorders can cause limitations in the domain of “Acquiring and using information.” For example, children with anxiety disorders may be so fearful about failing that they cannot perform learning-related tasks at school, such as taking tests or making presentations. Physical impairments, such as speech and hearing disorders, may affect a child's ability to learn, especially in the classroom. Other impairments that frequently have effects in this domain include, but are not limited to, traumatic brain injury, cerebral palsy, and meningitis.

As with limitations in any domain, we do not consider a limitation in the domain of “Acquiring and using information” unless it results from a medically determinable impairment(s). However, while it is common for all children to experience some difficulty acquiring and using information from time to time, a child who has significant but unexplained problems in this domain may have an impairment(s) that was not alleged or has not yet been diagnosed. In such cases, adjudicators should pursue any indications that an impairment(s) may be present.

Preschool and school evidence ¹⁰

¹⁰ For this domain, early intervention records can be an important source of information for children from birth to the attainment of age 3. For more information about how we consider early intervention, preschool, school, and other evidence, see SSRs 09-1p and 09-2p.

Because much of a preschool or school-age child's learning takes place in a school setting, preschool and school records are often a significant source of information about limitations in the domain of “Acquiring and using information.” Poor grades or inconsistent academic performance are among the more obvious indicators of a limitation in this domain provided they result from a medically determinable mental or physical impairment(s). Other indications in school records that a mental or physical impairment(s) may be interfering with a child's ability to acquire and use information include, but are not limited to:

• Special education services, such as assignment of a personal aide who helps the child with classroom activities in a regular classroom, remedial or compensatory teaching methods for academic subjects, or placement in a self-contained classroom.

• Related services to help the child benefit from special education, such as occupational, physical, or speech/language therapy, or psychological and counseling services.

• Other accommodations made for the child's impairment(s), both inside and outside the classroom, such as front-row seating in the classroom, more time to take tests, having tests read to the student, or after-school tutoring.

The kind, level, and frequency of special education, related services, or other accommodations a child receives can provide helpful information about the severity of the child's impairment(s). However, the lack of such indicators does not necessarily mean that a child has no limitations in this domain. For various reasons, some children's limitations may go unnoticed until well along in their schooling, or the children may not receive the services that they need.¹¹ Therefore, when we assess a child's abilities in any of the domains, we must compare the child's functioning to the functioning of same-age children without impairments based on all relevant evidence in the case record.

¹¹ See 20 CFR 416.924a(b)(7)(iv), which states that “[t]he fact that you do or do not receive special education services does not, in itself, establish your actual limitations or abilities. Children are placed in special education settings, or are included in regular classrooms (with or without accommodation), for many reasons that may or may not be related to the level of their impairments.”

Although we consider formal school evidence (such as grades and aptitude and achievement test scores) in determining the severity of a child's limitations in this domain, we do not rely solely on such measures. We also consider evidence about the child's ability to learn and think from medical and other non-medical sources (including the child, if the child is old enough to provide such information), and we assess limitations in this ability in all settings, not just in school.

As already noted, we do not consider a limitation in acquiring and using information unless it results from a medically determinable impairment(s). Therefore, we do not consider limitations that are associated with academic underachievement by a student who does not have a physical or mental impairment that accounts for the limitations.

Effects in other domains:

Children who have limitations in the domain of “Acquiring and using information” may also have limitations in other domains. For example, mental impairments that affect a child's ability to learn may also affect a child's ability to attend or to complete tasks. In such cases, we evaluate limitations in both the domains of “Acquiring and using information” and “Attending and completing tasks.” Also, children who have language impairments often have limitations in both the domains of “Acquiring and using information” and “Interacting and relating with others.”

Children who have physical impairments that affect motor functioning, which we evaluate in the domain of “Moving about and manipulating objects,” may also have limitations in the domain of “Acquiring and using information.” Symptoms associated with a physical impairment(s), such as generalized or localized pain, may interfere with a child's ability to concentrate (an effect that we evaluate in the domain of “Attending and completing tasks”), and this will often also have effects on the child's ability in the domain of “Acquiring and using information.” Lastly, some medications for physical impairments may affect mental functioning, interfering with a child's ability to pay attention, remember, or follow directions. We consider these effects in the domains of “Acquiring and using information,” “Attending and completing tasks,” or both.

Therefore, as in any case, we evaluate the effects of a child's impairment(s), including the effects of medication or other treatment and therapies, in all relevant domains. Rating the limitations caused by a child's impairment(s) in each and every domain that is affected is not “double-weighting” of either the impairment(s) or its effects. Rather, it recognizes the particular effects of the child's impairment(s) in all domains involved in the child's limited activities.¹²

¹² For more information about how we rate limitations, including their interactive and cumulative effects, see SSR 09-1p.

Examples of typical functioning in the domain of “Acquiring and using information”:

While there is a wide range of normal development, most children follow a typical course as they grow and mature. To assist adjudicators in evaluating a child's impairment-related limitations in the domain of “Acquiring and using information,” we provide the following examples of typical functioning drawn from our regulations, training, and case reviews. These examples are not all-inclusive, and adjudicators are not required to develop evidence about each of them. They are simply a frame of reference for determining whether children are functioning typically for their age with respect to acquiring and using information.

1. Newborns and young infants (birth to attainment of age 1):

• Shows interest in and explores the environment (for example, reaches for a toy).

• Engages in random actions that eventually become purposeful (for example, shakes a rattle).

• Begins to recognize and anticipate routine situations and events (for example, smiles at the sight of a stroller).

• Begins to recognize and attach meaning to everyday sounds (for example, the telephone).

• Begins to recognize and respond to familiar words (for example, own name, the name of a family member, or the word for a favorite toy or activity).

2. Older infants and toddlers (age 1 to attainment of age 3):

• Learns how objects go together in different ways.

• Learns through pretending that actions can represent real things.

• Understands that words represent people, things, places, and activities.

• Refers to self and things by pointing and eventually naming.

• Learns concepts and solves simple problems by purposeful experimentation (for example, taking a toy apart), imitation, constructive play (for example, building with blocks), and pretend play activities.

• Makes simple choices between two things.

• Responds to increasingly complex instructions and questions.

• Produces an increasing number of words and grammatically correct simple sentences and questions.

3. Preschool children (age 3 to attainment of age 6):

• Develops readiness skills needed for learning to read (for example, listening to stories, rhyming words, or matching letters).

• Develops readiness skills needed for learning to do math (for example, counting, sorting, or building with blocks).¹³

¹³ When building with blocks, a child is learning mathematical concepts such as “size” and “volume.”

• Develops readiness skills needed for learning to write (for example, coloring, painting, copying shapes, or using scissors).

• Uses words to ask questions, give answers, describe things, provide explanations, and tell stories.

• Follows several unrelated directions (for example, “Put your toy in the box and get your coat on.”).

• Begins to understand the order of daily routines (for example, breakfast before lunch).

• Begins to understand and remember own accomplishments.

• Begins to understand increasingly complex concepts (for example, “time” as in yesterday, today, and tomorrow).

4. School-age Children (age 6 to attainment of age 12):

• Learns to read, write, and do simple arithmetic.

• Becomes interested in new subjects and activities (for example, science experiments and stories from history).

• Demonstrates learning by producing oral and written projects, solving arithmetic problems, taking tests, doing group work, and entering into class discussions.

• Applies learning in daily activities at home and in the community (for example, reading street signs, telling time, and making change).

• Uses increasingly complex language (vocabulary and grammar) to share information, ask questions, express ideas, and respond to the opinions of others.

5. Adolescents (age 12 to attainment of age 18):

• Continues to demonstrate learning in academic assignments (for example, in composition, during classroom discussion, and by school laboratory experiments).

• Applies learning in daily situations without assistance (for example, going to the store, getting a book from the library, or using public transportation).

• Comprehends and expresses simple and complex ideas using increasingly complex language in academic and daily living situations.

• Learns to apply knowledge in practical ways that will help in employment (for example, carrying out instructions, completing a job application, or being interviewed by a potential employer).

• Plans ahead for future activities.

• Begins realistic occupational planning.

Examples of limitations in the domain of “Acquiring and using information”:

To further assist adjudicators in evaluating a child's impairment-related limitations in the domain of “Acquiring and using information,” we also provide the following examples of some of the limitations we consider in this domain. These examples are drawn from our regulations and training. They are not the only limitations in this domain, nor do they necessarily describe a “marked” or an “extreme” limitation.

In addition, the examples below may or may not describe limitations depending on the expected level of functioning for a given child's age. For example, a toddler would not be expected to be able to read, but a teenager would.¹⁴

¹⁴ See 20 CFR 416.924b.

• Does not demonstrate an understanding of words that describe concepts such as space, size, or time (for example, inside/outside, big/little, morning/night).

• Cannot rhyme words or the sounds in words.

• Has difficulty remembering what was learned in school the day before.

• Does not use language appropriate for age.

• Is not developing “readiness skills” the same as peers (for example, learning to count, reciting ABCs, scribbling).

• Is not reading, writing, or doing arithmetic at appropriate grade level.

• Has difficulty comprehending written or oral directions.

• Struggles with following simple instructions.

• Talks only in short, simple sentences.

• Has difficulty explaining things.

Effective date: This SSR is effective on March 19, 2009.

Cross-References: SSR 09-1p, Title XVI: Determining Childhood Disability Under the Functional Equivalence Rule—The “Whole Child” Approach; SSR 09-2p, Title XVI: Determining Childhood Disability—Documenting a Child's Impairment-Related Limitations; SSR 09-4p, Title XVI: Determining Childhood Disability—The Functional Equivalence Domain of “Attending and Completing Tasks”; SSR 09-5p, Title XVI: Determining Childhood Disability—The Functional Equivalence Domain of “Interacting and Relating with Others”; SSR 09-6p, Title XVI: Determining Childhood Disability—The Functional Equivalence Domain of “Moving About and Manipulating Objects”; SSR 09-7p, Title XVI: Determining Childhood Disability—The Functional Equivalence Domain of “Caring for Yourself”; SSR 09-8p, Title XVI: Determining Childhood Disability—The Functional Equivalence Domain of “Health and Physical Well-Being”; SSR 98-1p, Determining Medical Equivalence in Title XVI Childhood Disability Claims When a Child Has Marked Limitations in Cognition and Speech; and Program Operations Manual System (POMS) DI 25225.030, DI 25225.035, DI 25225.040, DI 25225.045, DI 25225.050, and DI 25225.055.

[FR Doc. E9-3379 Filed 2-13-09; 8:45 am]

BILLING CODE 4191-02-P